DEPARTMENT OF THE INTERIOR

Fish and Wildlife Service

[FWS-R2-ES-2015-N130; FXES11130200000-167-FF02ENEH00]

Draft Screening Form and Draft Low-Effect Habitat Conservation Plan for the Scenic Arizona Perez Home Development; Mohave County, AZ

AGENCY: Fish and Wildlife Service, Interior.

ACTION: Notice of availability; request for comments.

SUMMARY: We, the U.S. Fish and Wildlife Service (Service), have received an application from Alex Perez (applicant) for a 5-year incidental take permit for the threatened Mojave Desert tortoise pursuant to the Endangered Species Act of 1973, as amended (Act). We are requesting comments on the permit application, the draft Habitat Conservation Plan (HCP), and the preliminary determination that the proposed HCP qualifies as a “low-effect” HCP, eligible for a categorical exclusion under the National Environmental Policy Act (NEPA) of 1969, as amended. The basis for this determination is discussed in the environmental action statement (EAS) and associated low-effect screening form, which are also available for public review.

DATES: To ensure consideration, written comments must be received or postmarked on or before October 11, 2016. Any comments that we receive after the closing date may not be considered.

ADDRESSES:

Availability of Documents: The draft EAS, low-effect screening form, and draft Scenic Arizona Perez Home Development Low-Effect Habitat Conservation Plan are available by the following methods:

• Internet: Documents are available on the Internet at the Service's Web site, at http://www.fws.gov/southwest/es/arizona/.

• U.S. Mail: A limited number of CD-ROM and printed copies of both documents are available, by request, from Mr. Steve Spangle, Field Supervisor, Arizona Ecological Services Field Office, 9828 North 31st Ave. #C3, Phoenix, AZ 85051-2517; telephone: 602-242-0210; fax: 602-242-2513. Please note that your request is in reference to the Scenic Arizona Perez Home Development Low-Effect Habitat Conservation Plan HCP.

• In-Person: Copies of all documents are also available for public inspection and review at the following locations, by written request and appointment only, 8 a.m. to 4:30 p.m.:

• U.S. Fish and Wildlife Service, 500 Gold Avenue SW., Room 6034, Albuquerque, NM 87102.

• U.S. Fish and Wildlife Service, Arizona Ecological Services Field Office, 9828 North 31st Ave. #C3, Phoenix, AZ 85051-2517; telephone: 602-242-0210; fax: 602-242-2513.

Comment submission: We request that you send comments only by one of the methods described below. Comments submitted by any other means may not be considered. Please note that your request is in reference to the Scenic Arizona Perez Home Development Low-Effect HCP.

• Electronically: Send comments to fw2_hcp_permits@fws.gov.

• By hard copy: Submit comments by U.S. mail or hand-delivery to: U.S. Fish and Wildlife Service, Arizona Ecological Services Field Office, 9828 North 31st Ave. #C3, Phoenix, AZ 85051-2517; telephone: 602-242-0210.

FOR FURTHER INFORMATION CONTACT: Brian Wooldridge, Arizona Ecological Services Field Office—Flagstaff Office, 2500 S. Pine Knoll Dr., Flagstaff, AZ 86001; telephone (928-556-2106, extension 236); or by email (brian_wooldridge@fws.gov).

SUPPLEMENTARY INFORMATION: We, the U.S. Fish and Wildlife Service (Service), have received an application from Alex Perez (applicant) for a 5-year incidental take permit for one covered species pursuant to section 10(a)(1)(B) of the Endangered Species Act of 1973, as amended (16 U.S.C. 1531 et seq., Act). The application addresses the potential “take” of the threatened Mojave Desert tortoise in the course of activities associated with single-family home development activities on 10 acres of private land in the town of Scenic, Mohave County, Arizona. Measures to avoid and minimize impacts resulting from project activities would be implemented as described in the proposed HCP by the applicant.

We are requesting comments on the permit application and on the preliminary determination that the proposed HCP qualifies as a “low-effect” HCP, eligible for a categorical exclusion under the NEPA of 1969, as amended. The basis for this determination is discussed in the EAS and associated low-effect screening form, which are also available for public review.

Background

The applicant is seeking a 5-year permit under section 10(a)(1)(B) of the Act. If we approve the permit, the applicant anticipates the take of Mojave Desert tortoises (Gopherus agassizii) as a result of impacts to habitat the species uses for breeding, feeding, and sheltering. The take would be incidental to the applicant's activities associated with constructing the Scenic Arizona Perez Home Development.

Mr. Alex Perez purchased the 10 acres in Scenic, Arizona, and subdivided them into eight parcels to be developed with single-family homes. On each parcel, home-development activities would include clearing, building pads for homes and associated garages, and constructing homes and garages.

To minimize take of Mojave Desert tortoises by the project and offset impacts to its habitat, tortoises within the proposed impact areas will be relocated to land managed by the Bureau of Land Management approximately 2 miles southwest of the project site prior to initiation of development activities. It is anticipated that relocated tortoises will continue to contribute to the long-term conservation and survival of the species.

In addition, it is possible that only half of each parcel will be developed, leaving intact suitable tortoise habitat within the project area after project completion. Because tortoises are currently occupying burrows within similar habitat on nearby developed parcels, it is possible that tortoises will continue to use the undeveloped suitable habitat remaining on the project site after project completion.

Our Preliminary Determination

We have made a preliminary determination that the incidental take permit for this project is “low effect” and qualifies for categorical exclusion under the NEPA, as provided by 43 CFR 46.205, 43 CFR 46.210 and 516 Department Manual 8.5(C)(2).

We base our determination that the proposed HCP qualifies as a low-effect plan on the following three criteria:

(1) Implementation of the HCP would result in minor or negligible effects on federally listed, proposed, and candidate species and their habitats, including designated critical habitat;

(2) Implementation of the HCP would result in minor or negligible effects on other environmental values or resources; and

(3) Impacts of the HCP, considered together with the impacts of other past, present, and reasonably foreseeable similarly situated projects, would not result, over time, in cumulative effects to environmental values or resources that would be considered significant.

Based upon this preliminary determination, we do not intend to prepare further NEPA documentation. We will consider public comments in making the final determination on whether to prepare such additional documentation.

Next Steps

We will evaluate the proposed HCP and comments we receive to determine whether the permit application meets the requirements and issuance criteria under section 10(a) of the Act (16 U.S.C. 1531 et seq.). We will also evaluate whether issuing a section 10(a)(1)(B) incidental take permit would comply with section 7 of the Act by conducting an intra-Service consultation. We will use the results of this consultation, in combination with the above findings, in our final analysis to determine whether or not to issue a permit. If the requirements and issuance criteria under section 10(a) are met, we will issue the permit to the applicant for incidental take of Mojave Desert tortoise.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authority

We provide this notice under section 10(c) of the Act (16 U.S.C. 1531 et seq.) and its implementing regulations (50 CFR 17.22) and the NEPA (42 U.S.C. 4321 et seq.) and its implementing regulations (40 CFR 1506.6).

Joy E. Nicholopoulous,
Acting Regional Director, Southwest Region.

[FR Doc. 2016-21285 Filed 9-7-16; 8:45 am]

BILLING CODE 4333-15-P